ENVIRONMENTAL PROTECTION AGENCY

[FRL-10016-69-Region 5]

Proposed De Minimis Administrative Order on Consent for the Lane Street Ground Water Site in Elkhart, Indiana

AGENCY: Environmental Protection Agency (EPA).

ACTION: Notice; request for public comment.

SUMMARY: In accordance with the De Minimis Administrative Settlement Agreement and Order on Consent, notice is hereby given of a proposed administrative settlement concerning the Lane Street Ground Water Contamination Site in Elkhart, Indiana, with the following Settling Parties: Hach Company and Dynamic Metals LLC.

DATES: Comments must be submitted on or before December 16, 2020.

ADDRESSES: The proposed settlement is available for public inspection at the EPA, Region 5, Records Center, 77 W Jackson Blvd., 7th Fl., Chicago, Illinois 60604. A copy of the proposed settlement may be obtained from James Morris, Assoc. Regional Counsel, EPA, Office of Regional Counsel, Region 5, 77 W Jackson Blvd., mail code: C-14J, Chicago, Illinois 60604. Comments should reference the Lane Street Ground Water Contamination Site, Elkhart, Indiana, and should be addressed to James Morris, Assoc. Regional Counsel, EPA, Office of Regional Counsel, Region 5, 77 W Jackson Blvd., mail code: C-14J, Chicago, Illinois 60604.

FOR FURTHER INFORMATION CONTACT: James Morris, Assoc. Regional Counsel, EPA, Office of Regional Counsel, Region 5, 77 W Jackson Blvd., C-14J, Chicago, Illinois 60604. 312-886-6632; email: morris.james@epa.gov.

SUPPLEMENTARY INFORMATION: The Site occupies about 65 acres and consists of a contaminated groundwater plume underlying both active and inactive industrial, commercial, and residential properties. Various industries using hazardous substances operated at the Site for over 20 years, until approximately 2004. The contaminants of concern in the Site's groundwater include trichloroethene, tetrachloroethene, 1,1-dichloroethane, and cis-1,2-dichloroethene. Under the terms of the settlement, the Settling Parties, Hach Company and Dynamic Metals LLC, will pay specified amounts into an EPA special account within 30 days of the effective date of the settlement. Hach Company will pay $74,400.00 and Dynamic Metals LLC will pay $82,667.00. In return, EPA would give the Settling Parties a covenant not to sue, pursuant to the Comprehensive Environmental Response, Compensation, and Liability Act. On August 28, 2020, the Department of Justice issued its prior written approval of the settlement.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W Jackson Blvd., 7th Fl., Chicago, Illinois 60604.

Douglas Ballotti,
Director, Superfund & Emergency Management Division.

[FR Doc. 2020-24902 Filed 11-13-20; 8:45 am]

BILLING CODE 6560-50-P